DEPARTMENT OF ENERGY

Federal Energy Regulatory Commission

Combined Notice of Filings #1

Take notice that the Commission received the following electric corporate filings:

Docket Numbers: EC22-120-000.

Applicants: ABN Energy, LLC.

Description: Application for Authorization Under Section 203 of the Federal Power Act of ABN ENERGY, LLC.

Filed Date: 9/14/22.

Accession Number: 20220914-5152.

Comment Date: 5 p.m. ET 10/5/22.

Take notice that the Commission received the following Complaints and Compliance filings in EL Dockets:

Docket Numbers: EL22-76-000; QF22-777-001.

Applicants: Rocktown Solar, LLC, Rocktown Solar, LLC.

Description: Amended Application for Order Reinstating the Obligation to Purchase Under 18 CFR 292.311 of Rocktown Solar, LLC.

Filed Date: 9/13/22.

Accession Number: 20220913-5130.

Comment Date: 5 p.m. ET 10/11/22.

Take notice that the Commission received the following electric rate filings:

Docket Numbers: ER19-469-005.

Applicants: PJM Interconnection, L.L.C.

Description: Compliance filing: Supplemental Information to Amend Effective Date in ER19-469 to be effective 12/31/9998.

Filed Date: 9/16/22.

Accession Number: 20220916-5147.

Comment Date: 5 p.m. ET 10/7/22.

Docket Numbers: ER22-2863-000.

Applicants: Arizona Public Service Company.

Description: § 205(d) Rate Filing: Service Agreement No. 404, Indemnification Agreement with AES to be effective 8/18/2022.

Filed Date: 9/15/22.

Accession Number: 20220915-5206.

Comment Date: 5 p.m. ET 10/6/22.

Docket Numbers: ER22-2864-000.

Applicants: Arizona Public Service Company.

Description: § 205(d) Rate Filing: Service Agreement No. 405, E&P Agreement between APS & CO Bar Solar to be effective 8/16/2022.

Filed Date: 9/15/22.

Accession Number: 20220915-5212.

Comment Date: 5 p.m. ET 10/6/22.

Docket Numbers: ER22-2865-000.

Applicants: Public Service Company of New Mexico.

Description: § 205(d) Rate Filing: Executed Engineering and Procurement Agreement between PNM and Artisco Solar LLC to be effective 8/18/2022.

Filed Date: 9/15/22.

Accession Number: 20220915-5228.

Comment Date: 5 p.m. ET 10/6/22.

Docket Numbers: ER22-2866-000.

Applicants: PacifiCorp.

Description: § 205(d) Rate Filing: UAMPS TSOA Rev 6 to be effective 11/15/2022.

Filed Date: 9/16/22.

Accession Number: 20220916-5033.

Comment Date: 5 p.m. ET 10/7/22.

Docket Numbers: ER22-2867-000.

Applicants: Bluegrass Solar, LLC.

Description: Baseline eTariff Filing: Reactive Power Compensation Baseline to be effective 10/1/2022.

Filed Date: 9/16/22.

Accession Number: 20220916-5036.

Comment Date: 5 p.m. ET 10/7/22.

Docket Numbers: ER22-2868-000.

Applicants: Public Service Company of New Mexico.

Description: Notice of Cancellation of Rate Schedule No. 60 of Public Service Company of New Mexico.

Filed Date: 9/15/22.

Accession Number: 20220915-5306.

Comment Date: 5 p.m. ET 10/6/22.

Docket Numbers: ER22-2869-000.

Applicants: Midcontinent Independent System Operator, Inc.

Description: § 205(d) Rate Filing: 2022-09-16_SA 4030 Termination of GridLiance Heartland LLC Att KK-1 to be effective 9/1/2022.

Filed Date: 9/16/22.

Accession Number: 20220916-5093.

Comment Date: 5 p.m. ET 10/7/22.

Docket Numbers: ER22-2870-000.

Applicants: Midcontinent Independent System Operator, Inc.

Description: § 205(d) Rate Filing: 2022-09-16_Revisions to Attachment EE for Authorized Requestors to be effective 11/16/2022.

Filed Date: 9/16/22.

Accession Number: 20220916-5094.

Comment Date: 5 p.m. ET 10/7/22.

Docket Numbers: ER22-2871-000.

Applicants: Duke Energy Florida, LLC.

Description: § 205(d) Rate Filing: DEF-TECO RS 80 to be effective 11/22/2022.

Filed Date: 9/16/22.

Accession Number: 20220916-5099.

Comment Date: 5 p.m. ET 10/7/22.

Docket Numbers: ER22-2872-000.

Applicants: PJM Interconnection, L.L.C.

Description: § 205(d) Rate Filing: First Revised ISA No. 3796; Queue No. AD1-118 to be effective 8/17/2022.

Filed Date: 9/16/22.

Accession Number: 20220916-5110.

Comment Date: 5 p.m. ET 10/7/22.

Docket Numbers: ER22-2873-000.

Applicants: Duke Energy Carolinas, LLC.

Description: § 205(d) Rate Filing: DEC—Revisions to MBR Tariffs Vols 3 and 5 to be effective 11/16/2022.

Filed Date: 9/16/22.

Accession Number: 20220916-5117.

Comment Date: 5 p.m. ET 10/7/22.

Docket Numbers: ER22-2874-000.

Applicants: Duke Energy Florida, LLC.

Description: § 205(d) Rate Filing: DEF-Revisons to MBR Vols. 8, 10 to be effective 11/16/2022.

Filed Date: 9/16/22.

Accession Number: 20220916-5129.

Comment Date: 5 p.m. ET 10/7/22.

Docket Numbers: ER22-2875-000.

Applicants: Duke Energy Ohio, Inc.

Description: § 205(d) Rate Filing: DEO- MBR Revisions Vo. 1 to be effective 11/16/2022.

Filed Date: 9/16/22.

Accession Number: 20220916-5144.

Comment Date: 5 p.m. ET 10/7/22.

Docket Numbers: ER22-2876-000.

Applicants: FirstLight Power Management LLC.

Description: Baseline eTariff Filing: IROL-CIP Rate Schedule to be effective 9/16/2022.

Filed Date: 9/16/22.

Accession Number: 20220916-5145.

Comment Date: 5 p.m. ET 10/7/22.

Docket Numbers: ER22-2877-000.

Applicants: Duke Energy Kentucky, Inc.

Description: § 205(d) Rate Filing: DEK-MBR Revisions Vol 1 to be effective 11/16/2022.

Filed Date: 9/16/22.

Accession Number: 20220916-5152.

Comment Date: 5 p.m. ET 10/7/22.

Docket Numbers: ER22-2878-000.

Applicants: Duke Energy Indiana, LLC.

Description: § 205(d) Rate Filing: DEI—MBR Revions Vols. 1, 9 to be effective 11/16/2022.

Filed Date: 9/16/22.

Accession Number: 20220916-5155.

Comment Date: 5 p.m. ET 10/7/22.

Docket Numbers: ER22-2879-000.

Applicants: Duke Energy Progress, LLC.

Description: § 205(d) Rate Filing: DEP-MBR Revisions Vols 4, 5, 7 to be effective 11/16/2022.

Filed Date: 9/16/22.

Accession Number: 20220916-5163.

Comment Date: 5 p.m. ET 10/7/22.

Take notice that the Commission received the following foreign utility company status filings:

Docket Numbers: FC22-3-000.

Applicants: I Squared Capital.

Description: I Squared Capital submits Notice of Self-Certification of Foreign Utility Company Status.

Filed Date: 9/14/22.

Accession Number: 20220914-5104.

Comment Date: 5 p.m. ET 10/5/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 16, 2022.
Debbie-Anne A. Reese,
Deputy Secretary.

[FR Doc. 2022-20531 Filed 9-21-22; 8:45 am]

BILLING CODE 6717-01-P